DEPARTMENT OF COMMERCE

National Oceanic and Atmospheric Administration

RIN 0648-XA32

Magnuson-Stevens Act Provisions; General Provisions for Domestic Fisheries; Application for an Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application submitted by Dr. Pingguo He of the University of New Hampshire (UNH) contains all of the required information and warrants further consideration. The Assistant Regional Administrator has made a preliminary determination that the activities authorized under this EFP would be consistent with the goals and objectives of the Northeast (NE) Multispecies Fishery Management Plan (FMP). However, further review and consultation may be necessary before a final determination is made to issue an EFP. Therefore, NMFS announces that the Assistant Regional Administrator proposes to recommend that an EFP be issued that would allow one commercial fishing vessel to conduct fishing operations that are otherwise restricted by the regulations governing the fisheries of the Northeastern United States. The EFP would enable researchers to test an experimental whiting net that uses wheeled ground gear by granting exemption from the requirement to use a raised footrope trawl. Regulations under the Magnuson-Stevens Fishery Conservation and Management Act require publication of this notification to provide interested parties the opportunity to comment on applications for proposed EFPs.

DATES: Comments must be received on or before May 31, 2007.

ADDRESSES: You may submit written comments by any of the following methods:

• Email: DA7-138@noaa.gov. Include in the subject line “Comments on wheeled whiting trawl EFP.”

• Mail: Patricia A. Kurkul, Regional Administrator, NMFS, NE Regional Office, 1 Blackburn Drive, Gloucester, MA 01930. Mark the outside of the envelope “Comments on wheeled whiting trawl EFP, DA7-138.”

• Fax: (978) 281-9135.

FOR FURTHER INFORMATION CONTACT: Douglas Potts, Fishery Management Specialist, 978-281-9341.

SUPPLEMENTARY INFORMATION: An application for an EFP was submitted on May 2, 2007, by Dr. He of UNH and his industry partner Vincent Balzano, for a project funded under the Northeast Consortium. The primary goal of this study is to conduct feasibility and field testing of a trawl net equipped with a novel wheeled ground gear that may reduce the environmental impact on the seabed and reduce fuel consumption by the vessel.

The EFP would exempt one vessel from the requirement to use a raised footrope trawl net as specified at 50 CFR 648.80(a)(16) while conducting research trips in the Gulf of Maine (GOM) Grate Raised Footrope Trawl Whiting Exempted Fishery.

Initial testing of this gear will be conducted on a beach by towing the ground gear between two rented beach vehicles. During these trials, video recordings and photographs will be taken to evaluate the gear's rolling function and necessary initial adjustments and modifications will be made.

At sea research trips would be conducted over four days between July 1 and November 30, 2007. The experimental trawl net, with the exception of the ground gear, would conform to the requirements of this exempted fishery including a minimum 2.5-inch (6.35 cm) mesh size and a properly installed finfish excluder device. During trials, observations of the gear would be made with an underwater camera system and acoustic monitoring instruments would be used to measure net geometry.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 11, 2007.
James P. Burgess,
Acting Director, Office of Sustainable Fisheries, National Marine Fisheries Service.

[FR Doc. E7-9376 Filed 5-15-07; 8:45 am]

BILLING CODE 3510-22-S